DEPARTMENT OF THE TREASURY

Request for Expressions of Interest in Membership on the Federal Insurance Office's Advisory Committee on Risk-Sharing Mechanisms

AGENCY: Departmental Offices, U.S. Department of the Treasury.

ACTION: Notice.

SUMMARY: The Federal Insurance Office (FIO) within the Department of the Treasury invites the public to submit expressions of interest in serving as members of the Advisory Committee on Risk-Sharing Mechanisms (ACRSM). Submissions must be received by FIO no later than October 15, 2023.

FOR FURTHER INFORMATION CONTACT: Annette Burris, Senior Insurance Regulatory Policy Analyst, Federal Insurance Office, Department of the Treasury, 1500 Pennsylvania Ave. NW, Room 1410 MT, Washington, DC 20220, at (771) 215-6900 (this is not a toll-free number). Persons who have difficulty hearing or speaking may access this number via TTY by calling the toll-free Federal Relay Service at (800) 877-8339.

SUPPLEMENTARY INFORMATION:

Background. The ACRSM is a Federal advisory committee of insurance industry representatives established in 2015 to provide advice and recommendations to the Federal Insurance Office (FIO) with respect to (1) the creation and development of non-governmental, private market risk-sharing mechanisms for protection against losses arising from acts of terrorism; and (2) FIO's administration of the Terrorism Risk Insurance Program.¹ Assisting the Secretary of the Treasury in the administration of the Terrorism Risk Insurance Program is among FIO's duties and authorities as set out in Subpart A of the Federal Insurance Office Act of 2010 (31 U.S.C. 313, et seq.), title V of the Dodd-Frank Wall Street Reform and Consumer Protection Act, Public Law 111-203, 12 U.S.C. 5301 et seq. (July 21, 2010).

¹ Public Law 114-1, section 110.

The ACRSM's membership is balanced to include a cross-section of members consisting of directors, officers, or other employees of insurers, reinsurers, and capital market participants that are representative of the affected sectors of the insurance industry, including commercial property insurance, commercial casualty insurance, reinsurance, and alternative risk transfer industries. More information regarding the ACRSM, including a list of its current members, prior recommendations to FIO, and its organizational documents, is available on the Treasury website.²

² Advisory Committee on Risk-Sharing Mechanisms (ACRSM), U.S. Department of the Treasury, home.treasury.gov/policy-issues/financial-markets-financial-institutions-and-fiscal-service/federal-insurance-office/terrorism-risk-insurance-program/advisory-committee-on-risk-sharing-mechanisms-acrsm.

Individuals interested in serving as ACRSM members should submit an expression of interest including their name, organization or affiliation, and contact information (employment address, telephone number, and email address). Submissions should also include a curriculum vitae and a statement describing the individual's interest in serving and willingness to work on the issues addressed by the ACRSM.

A small subset of ACRSM members may be required to adhere to the conflict-of-interest rules applicable to Special Government Employees as such employees are defined in 18 U.S.C. 202(a). These rules include relevant provisions in 18 U.S.C. related to criminal activity, Standards of Ethical Conduct for Employees of the Executive Branch (5 CFR part 2635), and Executive Order 12674 (as modified by Executive Order 12731).

In accordance with Department of Treasury Directive 21-03, candidates for appointment to the ACRSM are subject to a clearance process, including fingerprinting, annual tax checks, and a Federal Bureau of Investigation criminal background check. All ACRSM candidates must agree to submit to these pre-appointment checks.

The deadline for submitting expressions of interest is October 15, 2023. Submissions may be sent by email to ACRSM@treasury.gov or by mail to: Federal Insurance Office, Room 1410, U.S. Department of the Treasury, 1500 Pennsylvania Avenue NW, Washington, DC 20220-0002, Attention: ACRSM.

Stephanie Schmelz,
Deputy Director, Federal Insurance Office.

[FR Doc. 2023-19565 Filed 9-11-23; 8:45 am]

BILLING CODE 4810-AK-P